OFFICE OF NATIONAL DRUG CONTROL POLICY

Leadership Conference on Medical Education in Substance Abuse to be held December 1-2, 2004

AGENCY: Office of National Drug Control Policy.

ACTION: Notice.

SUMMARY: A conference of leaders in the field of medical education in substance abuse will be held on Wednesday, December 1, 2004, and Thursday, December 2, 2004, in Washington, DC at the Washington Hilton Embassy Row, 2015 Massachusetts Avenue, NW., Washington, DC 20036.

The conference will begin at 6:30 p.m. on Wednesday, December 1, 2004, and conclude at 5:30 p.m. on Thursday, December 2, 2004. The Leadership Conference will: (1) Develop ongoing working relationships among agencies and organizations to increase physician knowledge and skills to address drug and alcohol related disorders; (2) facilitate the sharing of information among agency leaders and organizations in order to foster improved medical education at the undergraduate, graduate and continuing education level so as to enhance physicians' awareness of drug and alcohol-related disorders and improved skills and practices to address them; and (3) identify gaps in medical education curricula regarding alcohol and other drug related disorders. Members of the public who wish to attend the conference should telephone ONDCP'S Leadership Conference on Medical Education RSVP telephone line at (202) 395-6750 to arrange building access.

FOR FURTHER INFORMATION CONTACT: Martha M. Gagné at (202) 395-4622.

Dated: October 26, 2004.
Linda V. Priebe,
Assistant General Counsel.

[FR Doc. 04-24366 Filed 11-1-04; 8:45 am]

BILLING CODE 3180-02-P